DEPARTMENT OF THE INTERIOR

Fish and Wildlife Service

[Docket No. FWS-HQ-IA-2016-0074]; [FXIA16710900000-156-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, U.S. Fish and Wildlife Service, Division of Management Authority, Branch of Permits, MS: IA, 5275 Leesburg Pike, Falls Church, VA 22041; fax (703) 358-2281.

FOR FURTHER INFORMATION CONTACT: Brenda Tapia, (703) 358-2104 (telephone); (703) 358-2281 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) the application was filed in good faith, (2) the granted permit would not operate to the disadvantage of the endangered species, and (3) the granted permit would be consistent with the purposes and policy set forth in section 2 of the ESA.

Endangered Species
Permit No. | Applicant | Receipt of application Federal Register notice | Permit issuance date
36222B | Busch Gardens | 79 FR 54740; September 12, 2014 | September 2, 2015.
51119B | Tanganyika Wildlife Park | 80 FR 33541; June 12, 2015 | October 19, 2015.
70015B | Michael Braun, Smithsonian Institution Museum of Natural History | 80 FR 55868; September 17, 2015 | May 5, 2016.
57032B | Tanganyika Wildlife Park | 80 FR 64441; October 23, 2015 | December 18, 2015.
75939B | Institute For Conservation of Tropical Environments, SUNY at Stony Brook | 81 FR 2899; January 19, 2016 | May 11, 2016.
78822B | Denver Zoological Foundation | 81 FR 5778; February 3, 2016 | May 3, 2016.
86126B | James Mercer | 81 FR 8093; February 17, 2016 | April 7, 2016.
82159B | Wildlife Conservation Society | 81 FR 9497; February 25, 2016 | June 3, 2016.
86976B | Kenneth Morrill | 81 FR; 10884; March 2, 2016 | May 9, 2016.
10982A | The Austin Savanna | 81 FR; 10884; March 2, 2016 | May 24, 2016.
85599B | Atlanta-Fulton County Zoo dba Zoo Atlanta | 81 FR 12116; March 8, 2016 | May 11, 2016.
87863B | Danny Janecka | 81 FR 12116; March 8, 2016 | April 20, 2016.
51920A | Evan Rosenoff | 81 FR 16197; March 25, 2016 | May 12, 2016.
88822B | Armour Mellon | 81 FR 16197; March 25, 2016 | June 1, 2016.
77252B | Wildlife Conservation Society | 81 FR 16197; March 25, 2016 | June 3, 2016.
88755B | Matthew Duel Saulsbury | 81 FR 16197; March 25, 2016 | May 26, 2016.
91923B | Wayne Catto | 81 FR 20666; April 8, 2016 | May 26, 2016.
91319B | Aubrey Beacham | 81 FR 20666; April 8, 2016 | June 1, 2016.
92092B | Roger Hooten | 81 FR 20666; April 8, 2016 | June 1, 2016.
84795B | University of Minnesota | 81 FR 23745; April 22, 2016 | June 3, 2016.
81432B | Auburn University | 81 FR 23745; April 22, 2016 | June 8, 2016.

Marine Mammals
Permit No. | Applicant | Receipt of application Federal Register notice | Permit issuance date
92150B | Silverback Films | 81 FR 29889; May 13, 2016 | June 21, 2016.

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281.

Brenda Tapia,
Program Analyst/Data Administrator, Branch of Permits, Division of Management Authority.

[FR Doc. 2016-15605 Filed 6-30-16; 8:45 am]

BILLING CODE 4333-15-P